DEPARTMENT OF ENERGY

Federal Energy Regulatory Commission

Combined Notice of Filings #1

Take notice that the Commission received the following electric rate filings:

Docket Numbers: ER20-1041-004.

Applicants: Wabash Valley Power Association, Inc.

Description: ALJ Settlement: ER20-1041—Settlement Agreement and Offer of Settlement to be effective N/A.

Filed Date: 9/3/24.

Accession Number: 20240903-5003.

Comment Date: 5 p.m. ET 9/23/24.

Docket Numbers: ER24-1679-000.

Applicants: Eden Solar LLC.

Description: Amendment to 04/01/2024 Eden Solar LLC tariff filing.

Filed Date: 9/9/24.

Accession Number: 20240909-5196.

Comment Date: 5 p.m. ET 9/19/24.

Docket Numbers: ER24-3011-000.

Applicants: Reworld Camden County, L.P.

Description: Compliance filing: Notice of Succession to be effective 9/10/2024.

Filed Date: 9/9/24.

Accession Number: 20240909-5171.

Comment Date: 5 p.m. ET 9/30/24.

Docket Numbers: ER24-3013-000.

Applicants: Southwest Power Pool, Inc.

Description: Notice of Cancellation of Generator Interconnection Agreement of Southwest Power Pool, Inc.

Filed Date: 9/10/24.

Accession Number: 20240910-5051.

Comment Date: 5 p.m. ET 10/1/24.

Docket Numbers: ER24-3014-000.

Applicants: Willow Springs Solar, LLC.

Description: § 205(d) Rate Filing: Certificates of Concurrence and Request for Waiver to be effective 9/11/2024.

Filed Date: 9/10/24.

Accession Number: 20240910-5067.

Comment Date: 5 p.m. ET 10/1/24.

Docket Numbers: ER24-3015-000.

Applicants: Tri-State Generation and Transmission Association, Inc.

Description: Tariff Amendment: Notice of Cancellation of Rate Schedule No. 150 to be effective 8/1/2024.

Filed Date: 9/10/24.

Accession Number: 20240910-5102.

Comment Date: 5 p.m. ET 10/1/24.

Docket Numbers: ER24-3016-000.

Applicants: Tri-State Generation and Transmission Association, Inc.

Description: Tariff Amendment: Notice of Cancellation of Service Agreement No. 883 to be effective 8/1/2024.

Filed Date: 9/10/24.

Accession Number: 20240910-5106.

Comment Date: 5 p.m. ET 10/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 10, 2024.
Debbie-Anne A. Reese,
Acting Secretary.

[FR Doc. 2024-21026 Filed 9-16-24; 8:45 am]

BILLING CODE 6717-01-P